ENVIRONMENTAL PROTECTION AGENCY

[ER-FRL-9007-1]

Environmental Impacts Statements; Notice of Availability

Responsible Agency: Office of Federal Activities, General Information (202) 564-7146 or http://www.epa.gov/compliance/nepa/.

Weekly receipt of Environmental Impact Statements

Filed 12/31/2012 Through 01/04/2013

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: As of October 1, 2012, EPA will not accept paper copies or CDs of EISs for filing purposes; all submissions on or after October 1, 2012 must be made through e-NEPA.

While this system eliminates the need to submit paper or CD copies to EPA to meet filing requirements, electronic submission does not change requirements for distribution of EISs for public review and comment. To begin using e-NEPA, you must first register with EPA's electronic reporting site— https://cdx.epa.gov/epa_home.asp.

Draft EISs

EIS No. 20130001, Draft Supplement, BLM, AK, Hardrock Mineral Leasing in the White Mountains National Recreation Area, Supplement to the Eastern Interior Draft Resource Management Plan, AK, Comment Period Ends: 04/11/2013, Contact: Jeanie Cole 907-474-2340.

EIS No. 20130002, Draft EIS, BIA, CA, Shu'Luuk Wind Project, Campo Indian Reservation, Lease Approval, San Diego County, CA, Comment Period Ends: 02/25/2013, Contact: Lenore Lamb 951-276-6625 ext. 254.

Dated: January 8, 2013.
Cliff Rader,
Director, NEPA Compliance Division, Office of Federal Activities.

[FR Doc. 2013-00461 Filed 1-10-13; 8:45 am]

BILLING CODE 6560-50-P